DEPARTMENT OF JUSTICE

Notice of Lodging of Partial Consent Decree in Comprehensive Environmental Response, Compensation and Liability Act Cost Recovery Action

In accordance with the Departmental Policy, 28 CFR 50.7, notice is hereby given that a Partial Consent Decree in United States v. American Scrap Company, Civil Action No. 1:99-CV-2047, was lodged with the United States District Court for the Middle District of Pennsylvania on April 20, 2001. This Partial Consent Decree resolves the United States' claims against Hornell Waste Material Co., Inc., Midlane Salvage Co., Inc., Russell I. Young and Barbara Garry (“Settling Defendants”) under Section 107(a) of the Comprehensive Environmental Response, Compensation and Liability Act (“CERCLA”), 42 U.S.C. 9607(a), for response costs incurred at the Jack's Creek/Sitkin Smelting Superfund Site in Mifflin County, Pennsylvania. The Partial Consent Decree requires the Settling Defendants to pay a total of $45,000 in past resposne costs.

The Department of Justice will accept written comments on the proposed Partial Consent Decree for thirty (30) days from the date of publication of this notice. Please address comments to the Acting Assistant Attorney General, Environment and Natural Resources Division, Department of Justice, P.O. Box 7611, Ben Franklin Station, Washington, DC 20044 and refer to United States v. American Scrap Company, DOJ # 90-11-2-911/1.

Copies of the proposed Partial Consent Decree may be examined at the Office of the United States Attorney, Middle District of Pennsylvania, 228 Walnut Street, Harrisburg, PA 17108, and at EPA Region III, 1650 Arch Street, Philadelphia, PA 19103-2029. A copy of the proposed Partial Consent Decree may be obtained by mail from the U.S. Department of Justice, Consent Decree Library, P.O. Box 7611, Washington, DC 20044-7611. When requesting a copy of the proposed Partial Consent Decree, please enclose a check to cover the twenty-five cents per page reproduction costs payable to the “Consent Decree Library” in the amount of $8.50, and reference United States v. American Scrap Company, DOJ # 90-11-2-911/1.

Robert Brook,
Assistant Chief, Environmenal Enforcement Section, Environment and Natural Resources Division, U.S. Department of Justice.

[FR Doc. 01-11124 Filed 5-2-01; 8:45 am]

BILLING CODE 4410-15-M